DEPARTMENT OF TRANSPORTATION

Federal Aviation Administration

14 CFR Part 39

[Docket No. FAA-2022-0157; Project Identifier AD-2022-00193-R; Amendment 39-21969; AD 2022-06-03]

RIN 2120-AA64

Airworthiness Directives; Bell Textron Inc. (Type Certificate Previously Held by Bell Helicopter Textron Inc.) Helicopters

AGENCY: Federal Aviation Administration (FAA), DOT.

ACTION: Final rule; request for comments.

SUMMARY: The FAA is superseding Airworthiness Directive (AD) 2022-02-02 which applied to certain Bell Textron Inc. (type certificate previously held by Bell Helicopter Textron Inc.) Model 204B, 205A, 205A-1, 205B, 210, and 212 helicopters with a certain main rotor hub strap pin (pin) installed. AD 2022-02-02 required removing certain outboard pins from service and prohibited installing them on any helicopter. This AD expands the applicability to all affected pins, regardless if they are outboard or inboard. This AD also requires inspecting the removed pin for any deformation and if it is deformed, removing the mating strap fitting (fitting) from service. This AD was prompted by the discovery that AD 2022-02-02 inadvertently limited its applicability to only outboard pins when, in fact, all pins are subject to the unsafe condition and the determination that a deformed pin may have damaged the fitting. The FAA is issuing this AD to address the unsafe condition on these products.

DATES: This AD is effective March 16, 2022.

The FAA must receive any comments on this AD by April 28, 2022.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations,M-30, West Building Ground Floor, Room W12-140, 1200 New Jersey Avenue SE, Washington, DC 20590.

• Hand Delivery: Deliver to Mail address above between 9 a.m. and 5 p.m., Monday through Friday, except Federal holidays.

For service information identified in this final rule, contact Bell Textron, Inc., P.O. Box 482, Fort Worth, TX, 76101; telephone (450) 437-2862 or (800) 363-8023; fax (450) 433-0272; email productsupport@bellflight.com; or at https://www.bellflight.com/support/contact-support. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2022-0157; or in person at Docket Operations between 9 a.m. and 5 p.m., Monday through Friday, except Federal holidays. The AD docket contains this final rule, any comments received, and other information. The street address for Docket Operations is listed above.

FOR FURTHER INFORMATION CONTACT: Kuethe Harmon, Safety Management Program Manager, Certification & Program Management Section, DSCO Branch, Compliance & Airworthiness Division, FAA, 10101 Hillwood Pkwy., Fort Worth, TX 76177; telephone (817) 222-5198; email kuethe.harmon@faa.gov.

SUPPLEMENTARY INFORMATION:

Background

The FAA issued Emergency AD 2021-15-51 on July 6, 2021, and it published as a Final rule; request for comments on August 9, 2021 as Amendment 39-21678 (86 FR 43406) (AD 2021-15-51). AD 2021-15-51 applied to Bell Textron Inc. Model 204B, 205A, 205A-1, 205B, and 212 helicopters with a pin part number (P/N) 204-012-104-005 with a serial number (S/N) prefix “FNFS” installed. AD 2021-15-51 was prompted by a fatal accident of a Model 212 helicopter in which the affected pin sheared off during flight, resulting in the main rotor blade and the main rotor head detaching from the helicopter. The pin had accumulated only 20 total hours time-in-service (TIS). An inspection of a different Model 212 helicopter revealed that another pin installed, and made by the same manufacturer and with the same S/N prefix, was deformed; this pin had accumulated only 29 total hours TIS. Because an affected pin could also be installed on other helicopters, AD 2021-15-51 also applied to Model 204B, 205A, 205A-1, and 205B helicopters. Failure of a pin could result in the main rotor blade detaching from the helicopter and subsequent loss of control of the helicopter.

After AD 2021-15-51 was issued, it was determined that an affected pin could also be installed on Model 210 helicopters. Therefore, the FAA issued superseding AD 2022-02-02 (87 FR 1668, January 12, 2022) (AD 2022-02-02) which retained all of the requirements in AD 2021-15-51 and added Model 210 helicopters to the applicability. However, as published, the AD number in the regulatory text was incorrectly specified as FAA-2021-1003; the correct AD number was 2022-02-02. The FAA subsequently issued corrected AD 2022-02-02 (87 FR 7368, February 9, 2022) to correct the AD number.

Actions Since AD 2022-02-02 Was Issued

Since the FAA issued AD 2022-02-02, it was discovered that the word “outboard” was inadvertently included in that AD's applicability, resulting in the possibility that corrective actions for the inboard pin may not be accomplished. Additionally, the FAA determined, after further review of the related service information, that inspecting the affected pin for any deformity and removing the fitting P/N 212-010-103-ALL or 204-012-103-ALL from service is required to address the unsafe condition. The FAA is issuing this AD to address the unsafe condition on these products.

FAA's Determination

The FAA is issuing this AD because the agency determined the unsafe condition described previously is likely to exist or develop in other products of the same type designs.

Related Service Information

The FAA reviewed Bell Alert Service Bulletins (ASBs), each Revision A and dated July 22, 2021:

• ASB 204B-21-74 for Model 204B helicopters, S/Ns 2001 through 2070 and 2196 through 2199;

• ASB 205-21-117 for Model 205A and 205A-1 helicopters, S/Ns 30001 through 30065, 30067 through 30165, 30167 through 30187, 30189 through 30296, and 30298 through 30332;

• ASB 205B-21-71 for Model 205B helicopters, S/Ns 30066, 30166, 30188, and 30297;

• ASB 210-21-14 for all Model 210 helicopters, and

• ASB 212-21-165 for Model 212 helicopters, S/Ns 30501 through 30999, 31101 through 31311, 32101 through 32142, and 35001 through 35103.

The ASBs specify removing all P/N 204-012-104-005 pins with an S/N prefix “FNFS” before further flight. The ASBs also specify inspecting removed pins for deformation and scrapping the fitting, P/N 212-010-103-ALL or 204-012-103-ALL, if the pin is deformed. The ASBs also specify that, although the investigation is still in progress, removing these pins from service is required. The ASBs state that these pins may not have been manufactured in accordance with the engineering design requirements and may therefore shear as a result of this nonconformance.

AD Requirements

This AD requires, before further flight, removing from service each pin P/N 204-012-104-005 with an S/N prefix “FNFS” and inspecting it for any deformation. If there is any deformation, this AD also requires removing the fitting from service before further flight. Finally, this AD prohibits installing the affected pin on any helicopter as of the effective date of this AD.

Interim Action

The FAA considers this AD to be an interim action. If final action is later identified, the FAA might consider further rulemaking.

Justification for Immediate Adoption and Determination of the Effective Date

Section 553(b)(3)(B) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because an affected pin was involved in a fatal accident in which the pin sheared off during flight, resulting in the main rotor blade and the main rotor head detaching from the helicopter. That pin had accumulated only 20 total hours TIS. An additional investigation revealed that another pin installed on a different helicopter and made by the same manufacturer and with the same S/N prefix was deformed. This pin had accumulated only 29 total hours TIS. The wording in AD 2022-02-02 could have caused an inboard pin with the same part number and S/N prefix, which is subject to the same unsafe condition, to be left in service. Failure of an affected pin could occur at any time without any previous indication, which could result in the failure of parts critical to the control of the helicopter. Thus, an urgent unsafe condition exists and corrective actions must be accomplished before further flight.

Accordingly, notice and opportunity for prior public comment are impracticable and contrary to the public interest pursuant to 5 U.S.C. 553(b)(3)(B). In addition, the FAA finds that good cause exists pursuant to 5 U.S.C. 553(d) for making this amendment effective in less than 30 days, for the same reasons the FAA found good cause to forgo notice and comment.

Comments Invited

The FAA invites you to send any written data, views, or arguments about this final rule. Send your comments to an address listed under ADDRESSES. Include “Docket No. FAA-2022-0157 and Project Identifier AD 2022-00193-R” at the beginning of your comments. The most helpful comments reference a specific portion of the proposal, explain the reason for any recommended change, and include supporting data. The FAA will consider all comments received by the closing date and may amend this final rule because of those comments.

Except for Confidential Business Information (CBI) as described in the following paragraph, and other information as described in 14 CFR 11.35, the FAA will post all comments received, without change, to https://www.regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Kuethe Harmon, Safety Management Program Manager, Certification & Program Management Section, DSCO Branch, Compliance & Airworthiness Division, FAA, 10101 Hillwood Pkwy., Fort Worth, TX 76177. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without prior notice and comment, RFA analysis is not required.

Costs of Compliance

The FAA estimates that this AD affects 155 helicopters of U.S. Registry. Labor rates are estimated at $85 per work-hour. Based on these numbers, the FAA estimates the following costs to comply with this AD.

Replacing up to four pins takes about 20 work-hours and parts cost about $1,756 for four pins for an estimated cost of up to $3,456 per helicopter, and up to $535,680 for the U.S. fleet.

Replacing up to 4 fittings takes about 2 work-hours and parts cost about $14,400 for an estimated cost of up to $14,570 per helicopter, and up to $2,258,350 for the U.S. fleet.

The FAA has included all known costs in its cost estimate. According to the manufacturer, however, some of the costs of this AD may be covered under warranty, thereby reducing the cost impact on affected individuals.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-02-02, Amendment 39-21899 (87 FR 1668, January 12, 2022; corrected 87 FR 7368, February 9, 2022); and

b. Adding the following new AD:

2022-06-03 Bell Textron Inc. (Type Certificate Previously Held by Bell Helicopter Textron Inc.: Amendment 39-21969; Docket No. FAA-2022-0157; Project Identifier AD-2022-00193-R.

(a) Effective Date

This airworthiness directive (AD) is effective March 16, 2022.

(b) Affected ADs

This AD replaces AD 2022-02-02, Amendment 39-21899 (87 FR 1668, January 12, 2022) and corrected as AD 2022-02-02, Amendment 39-21899 (87 FR 7368, February 9, 2022).

(c) Applicability

This AD applies to Bell Textron Inc. (type certificate previously held by Bell Helicopter Textron Inc.) Model 204B, 205A, 205A-1, 205B, 210, and 212 helicopters, certificated in any category, with a main rotor hub strap pin (pin) part number 204-012-104-005 with a serial number prefix “FNFS” installed.

(d) Subject

Joint Aircraft System Component (JASC) Code: 6200, Main Rotor System.

(e) Unsafe Condition

This AD was prompted by a fatal accident in which a pin sheared off during flight, which resulted in the main rotor blade and the main rotor head detaching from the helicopter. The FAA is issuing this AD to address this unsafe condition and prevent loss of control of the helicopter.

(f) Compliance

Comply with this AD within the compliance times specified, unless already done.

(g) Required Actions

(1) Before further flight after the effective date of this AD, remove from service any pin that is identified in paragraph (c) of this AD and inspect it for any deformity. If the pin is deformed, remove from service the mating strap fitting (P/N 212 -010-103-ALL or 204-012-103-ALL).

(2) As of the effective date of this AD, do not install any pin that is identified in paragraph (c) of this AD on any helicopter.

(h) Special Flight Permit

Special flight permits are prohibited.

(i) Alternative Methods of Compliance (AMOCs)

(1) The Manager, DSCO Branch, Compliance & Airworthiness Division, FAA, has the authority to approve AMOCs for this AD, if requested using the procedures found in 14 CFR 39.19. In accordance with 14 CFR 39.19, send your request to your principal inspector or local Flight Standards District Office, as appropriate. If sending information directly to the manager of the DSCO Branch, send it to the attention of the person identified in paragraph (j) of this AD. Information may be emailed to: 9-ASW-190-COS@faa.gov.

(2) Before using any approved AMOC, notify your appropriate principal inspector, or lacking a principal inspector, the manager of the local flight standards district office/certificate holding district office.

(j) Related Information

For more information about this AD, contact Kuethe Harmon, Safety Management Program Manager, Certification & Program Management Section, DSCO Branch, Compliance & Airworthiness Division, FAA, 10101 Hillwood Pkwy., Fort Worth, TX 76177; telephone (817) 222-5198; email kuethe.harmon@faa.gov.

(k) Material Incorporated by Reference

None.

Issued on March 4, 2022.
Ross Landes,
Deputy Director for Regulatory Operations, Compliance & Airworthiness Division, Aircraft Certification Service.

[FR Doc. 2022-05378 Filed 3-10-22; 11:15 am]

BILLING CODE 4910-13-P